DEPARTMENT OF TRANSPORTATION

Pipeline and Hazardous Materials Safety Administration

[Docket No. PHMSA-2014-0002 (PDA-36(R))]

Pittsburgh, Pennsylvania Permit Requirements for Transportation of Hazardous Material

AGENCY: Pipeline and Hazardous Materials Safety Administration (PHMSA), DOT.

ACTION: Notice.

SUMMARY: In accordance with statutory requirements, PHMSA is publishing a notice of delay in processing the American Trucking Associations, Inc.'s (ATA) application for a preemption determination concerning requirements of the City of Pittsburgh, Pennsylvania for a permit to transport hazardous materials by motor vehicle and the fee to obtain the permit. PHMSA is conducting fact-finding and legal analysis in response to the request, and is delaying issuance of its determination in order to allow time for appropriate consideration of the issues raised by the application.

FOR FURTHER INFORMATION CONTACT: Vincent Lopez, Office of Chief Counsel (PHC-10), Pipeline and Hazardous Materials Safety Administration, U.S. Department of Transportation, 1200 New Jersey Avenue SE., Washington, DC 20590; telephone No. 202-366-4400; facsimile No. 202-366-7041.

SUPPLEMENTARY INFORMATION: ATA applied for an administrative determination concerning whether Federal hazardous material transportation law, 49 U.S.C. 5101 et seq., preempts requirements of the City of Pittsburgh, Pennsylvania for a permit to transport hazardous materials by motor vehicle and the fee to obtain the permit. PHMSA published notice of ATA's application in the Federal Register on April 17, 2014. 79 FR 21840.

Title 49 U.S.C. 5125(d)(1) requires PHMSA to issue a decision on an application for a preemption determination “within 180 days after the date of the publication of the notice of having received such application, or the Secretary shall publish a statement in the Federal Register of the reason why the Secretary's decision on the application is delayed, along with an estimate of the additional time necessary before a decision is made.”

ATA's application for a preemption determination is still under consideration by PHMSA. The Agency is currently conducting fact-finding and legal analysis in response to the application. Because of this additional fact-finding and legal analysis, it was impracticable to issue a decision within the 180-day timeframe. In order to allow time for full consideration of the issues raised by the application, PHMSA delays issuance of its determination, and estimates a decision will be published in approximately 120 days.

Issued in Washington, DC, on April 21, 2015.
Joseph Solomey,
Senior Assistant Chief Counsel.

[FR Doc. 2015-09632 Filed 4-24-15; 8:45 am]

BILLING CODE 4910-60-P